DEPARTMENT OF COMMERCE

National Oceanic and Atmospheric Administration

RIN 0648-XD518

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold meetings of its 117th Scientific and Statistical Committee (SSC) and its 161st Council meeting to take actions on fishery management issues in the Western Pacific Region. The Council will also convene meetings of the Council's Education Steering Committee, Fishery Data Collection and Research Committee, Pelagic Standing Committee, and Executive and Budget Standing Committee.

DATES: The meetings will be held Monday, October 13, 2014 through Thursday, October 23, 2014. For specific dates, times and agendas, see SUPPLEMENTARY INFORMATION.

ADDRESSES: The Education Steering Committee, 117th SSC, the Fishery Data Collection and Research Committee and Standing Committee meetings will be held at the Council office, 1164 Bishop Street, Suite 1400, Honolulu, HI 96813; telephone: (808) 522-8220.

The 161st Council meeting will be held at the Laniakea YWCA-Fuller Hall, 1040 Richards Street, Honolulu, HI 96813; telephone: (808) 538-7061.

The Fishers Forum will be held at the Harbor View Center, Pier 38, 1129 North Nimitz Highway, Honolulu, HI 96817; telephone: (808) 983-1200.

Background documents will be available from, and written comments should be sent to, Mr. Edwin Ebisui, Acting Chair, Western Pacific Fishery Management Council, 1164 Bishop Street, Suite 1400, Honolulu, HI 96813; telephone: (808) 522-8220 or fax: (808) 522-8226.

FOR FURTHER INFORMATION CONTACT: Kitty M. Simonds, Executive Director; telephone: (808) 522-8220.

SUPPLEMENTARY INFORMATION: The Education Steering Committee will meet on October 13, 2014, between 3 p.m. and 5 p.m.; 117th SSC meeting on October 14-16, 2014, between 8:30 a.m. and 5 p.m.; Fishery Data Collection and Research Committee October 20, 2014, between 10 a.m. and 12 noon; the Council's Pelagics and International Standing Committee on October 20, 2014, between 1 p.m. and 3 p.m. and Executive and Budget Standing Committee October 20, between 3 p.m. and 5 p.m.; the 161st Council meeting will be held between 8:30 a.m. and 5 p.m. on October 21-23, 2014. In addition, the Council will host a Fishers Forum on October 21, 2014, between 6 p.m. and 9 p.m.

In addition to the agenda items listed here, the SSC and Council will hear recommendations from Council advisory groups. Public comment periods will be provided throughout the agendas. The order in which agenda items are addressed may change. The meetings will run as late as necessary to complete scheduled business.

Schedule and Agenda for the Education Steering Committee

3 p.m.-5 p.m., Monday, October 13, 2014

1. Scholarship Program

2. Internships

3. Educational Resources

4. Public Comment

5. Discussion and Recommendations

Schedule and Agenda for 117th SSC Meeting

8:30 a.m.-5 p.m. Tuesday, October 14, 2014

1. Introductions

2. Approval of Draft Agenda and Assignment of Rapporteurs

3. Status of the 116th SSC Meeting Recommendations

4. Report from the National Marine Fisheries Service (NMFS) Pacific Islands Fisheries Science Center Director

5. Report from NMFS Office of Science & Technology

6. Insular Fisheries

A. NMFS Pacific Islands Fisheries Science Center's Response to SSC Comments on 2014 Main Hawaiian Islands (MHI) Deep 7 Bottomfish Stock Assessment

B. Report on SSC Subgroup Regarding 2014 MHI Deep 7 Bottomfish Stock Assessment

C. Public Comment

D. SSC Discussion and Recommendations

7. Program Planning

A. Specifying Acceptable Biological Catches (ABCs) for the American Samoa, Guam and CNMI Bottomfish (Action Item)

B. Report on the Center for Independent Experts (CIE) Review on the Biomass Augmented Catch-Maximum Sustainable Yield (BAC-MSY) Model

C. Reconsideration of ABC Recommendations for Coral Reef Fish, Crustacean, MHI Deep 7 and Non-Deep 7 Bottomfish (Action Item)

D. Discussion to Develop Agenda for the Fifth National SSC Meeting on Uncertainties in ABC Specifications for Data-limited Stocks

E. Marine Planning and Climate Change Committee

F. Public Comment

G. SSC Discussion and Recommendations

8:30 a.m.-5 p.m., Wednesday, October 15, 2014

8. Pelagic Fisheries

A. Fishery Ecosystem Plan (FEP) Amendment for Regional Fishery Management Organization (RFMO) Measures

1. Development of a Framework Process to Implement RFMO Conservation and Management Measures under the Pelagic FEP

2. Draft Proposed Regulations to Address Overfishing and Overfished Status of Western Central Pacific Ocean North Pacific (WCPO NP) Striped Marlin (Action Item)

B. Bigeye Stock Status (Action Item)

C. Hawaii Yellowfin and Bigeye Commercial Minimum Size Limit (Action Item)

D. Report on Disproportionate Burden Workshop

E. 2014 El Niño Update

F. International Fisheries

1. Western and Central Pacific Fisheries Commission (WCPFC) Science Committee

2. WCPFC Northern Committee

3. WCPFC Technical and Compliance Committee

4. US Permanent Advisory Committee

G. Ocean Legacy

H. Public Comment

I. SSC Discussion and Recommendations

9. Protected Species

A. Report on the Hawaii Deep-set Longline Biological Opinion (BiOp)

B. Draft 2014 Marine Mammal Stock Assessment Reports

C. Preliminary Summary of the Molokai Cetacean Survey

D. Independent Advisory Team for Marine Mammal Assessments

E. Updates on Endangered Species Act (ESA) and Marine Mammal Protection Act (MMPA) Actions

1. Final Determination to List Corals under the ESA

2. Final Determination to List Scalloped Hammerhead Shark under the ESA

3. 90-day Finding on a Petition to List Seven Species of Pomacentrid Reef Fish under the ESA

4. Green Turtle Status Review

5. North Pacific Humpback Whale Status Review

6. Update on the False Killer Whale Take Reduction Plan Implementation

7. Proposed 2015 List of Fisheries

8. Other Relevant Actions

F. Public Comment

G. SSC Discussion and Recommendations

8:30 a.m.-12 noon, Thursday, October 16, 2014

10. Other Business

A. 118th SSC Meeting

11. Summary of SSC Recommendations to the Council

Fishery Data Collection and Research Committee

10 a.m.-12 noon, Monday, October 20, 2014

1. Welcome Remarks

2. Introductions

3. Update on Progress on Data Collection Projects

4. Review of the Strategic Plan Changes

5. Endorsement and Signing of the Strategic Plan

6. Revisiting Data Sharing Agreements

7. Planning for the Next Steps

8. Public Comment

9. Discussions and Recommendations

Schedule for Council Standing Committee Meetings

1 p.m.-3 p.m. Monday, October 20, 2014

Pelagic and International Standing Committee

3 p.m.-5 p.m. Monday, October 20, 2014

Executive and Budget Standing Committee

Schedule and Agenda for 161st Council Meeting

8:30 a.m.-5 p.m., Tuesday, October 21, 2014

1. Welcome and Introductions

A. Swearing In of New and Reappointed Members

2. Approval of the 161st Agenda

3. Approval of the 160th Meeting Minutes

4. Executive Director's Report

5. Presentation on State of Ecosystem

6. Agency Reports

A. NMFS

1. Pacific Islands Regional Office

2. Pacific Islands Fisheries Science Center

B. NOAA Office of General Counsel, Pacific Islands Section

C. U.S. Fish and Wildlife Service

D. Enforcement

1. U.S. Coast Guard

2. NOAA Office of Law Enforcement

3. NOAA Office of General Counsel, Enforcement Section

E. Public Comment

F. Council Discussion and Action

7. Program Planning and Research

A. Specifying Annual Catch Limits for American Samoa, Guam, CNMI Bottomfish (Action Item)

B. Report on CIE Review of BAC-MSY Model (Action Item)

C. Reconsideration of ACL Recommendation and Accountability Measures for Coral Reef Fish, Crustaceans and MHI Non-deep 7 Bottomfish (Action Item)

D. Regional Electronic Technologies Implementation Plan

E. Western Pacific Stock Assessment Review Process and Policy

F. Regional, National and International Outreach & Education

G. Advisory Group Reports and Recommendations

1. Fishery Data Collection and Research Committee

2. Marine Planning and Climate Change Committee

3. Education Steering Committee

H. SSC Recommendations

I. Public Hearing

J. Council Discussion and Action

Fishers Forum Harbor View Center, 6 p.m.-9 p.m.

Hawaii Yellowfin and Striped Marlin Management

8:30 a.m.-5 p.m., Wednesday, October 22, 2014

8. American Samoa Archipelago

A. Motu Lipoti

B. Fono Report

C. Enforcement Issues

D. Community Activities and Issues

E. Education and Outreach Initiatives

F. American Samoa National Marine Sanctuary

G. Rose Atoll Marine National Monument

H. SSC Recommendations

I. Public Comment

J. Council Discussion and Action

9. Hawaii Archipelago

A. Moku Pepa

B. Legislative Report

C. Enforcement

D. Main Hawaiian Islands Bottomfish

1. PIFSC Response to SSC Comments on MHI Deep 7 Bottomfish Stock Assessment

2. Report on SSC Subgroup Regarding 2014 MHI Deep 7 Stock Assessment

3. Reconsideration of MHI Deep 7 ACL Specification (Action Item)

4. State of Hawaii BRFA Management Plan

5. Regulatory Changes Establishing a Market Delay for the Sale and Removal of Non-commercial Bag Limits for MHI Bottomfish (Action Item)

E. Community Projects, Activities and Issues

1. Report on Puwalu

2. Council Marine Science Summer Class

3. Outreach and Education Report

F. Hawaiian Islands Humpback Whale National Marine Sanctuary

G. SSC Recommendations

H. Public Hearing

I. Council Discussion and Action

10. Protected Species

A. Report on the Hawaii Deep-set Longline Biological Opinion

B. Draft 2014 Marine Mammal Stock Assessment Reports

C. Updates on Endangered Species Act and Marine Mammal Protection Act Actions

1. Final Determination to List Corals under the ESA

2. Final Determination to List Scalloped Hammerhead Shark under the ESA

3. 90-day Finding on a Petition to List Seven Species of Pomacentrid Reef Fish under the ESA

4. Green Turtle Status Review

5. North Pacific Humpback Whale Status Review

6. Update on the False Killer Whale Take Reduction Plan Implementation

7. Proposed 2015 List of Fisheries

8. Other Relevant Actions

D. SSC Recommendations

E. Public Comment

F. Council Discussion and Action

11. Public Comment on Non-agenda Items

8:30 a.m.-5 p.m., Thursday October 23, 2014

12. Mariana Archipelago

A. Guam

1. Isla Informe

2. Legislative Report

3. Enforcement Issues

4. Community Activities and Issues

B. Commonwealth of Northern Mariana Islands

1. Arongol Falú

2. Legislative Report

3. Enforcement Issues

4. Bottomfish Area Closure Modification (Action Item)

5. Community Activities and Issues

C. Marianas Trench Marine National Monument: Islands, Volcanic, and Trench Units

D. SSC Recommendations

E. Public Hearing

F. Council Discussion and Action

13. Pelagic & International Fisheries

A. FEP Amendment for RFMO Measures

1. Development of a Framework Process to Implement RFMO Conservation and Management Measures under the Pelagic FEP

2. Draft Proposed Regulations to Address Overfishing and Overfished Status of WCPO NP Striped Marlin (Action Item)

B. Bigeye Stock Status (Action Item)

C. Hawaii Yellowfin and Bigeye Commercial Minimum Size Limit (Action Item)

D. American Samoa Exclusive Economic Zone Albacore Catch Limit (Action Item)

E. Report on Disproportionate Burden Workshop

F. International Fisheries

1. WCPFC Science Committee

2. WCPFC Northern Committee

3. WCPFC Technical and Compliance Committee

4. US Permanent Advisory Committee

G. Proposed Expansion of the Pacific Remote Islands Marine National Monument

H. SSC Recommendations

I. Standing Committee Recommendations

J. Public Hearing

K. Council Discussion and Recommendations

14. Administrative Matters

A. Council Member and Staff Ethics Training

B. Financial Reports

C. Administrative Reports

D. Council Family Changes

E. Meetings and Workshops

F. Report on Operational Guidelines Workshop

G. Report on MSA Reauthorization

H. Other Business

I. Standing Committee Recommendations

J. Public Comment

K. Council Discussion and Action

15. Election of Officers

16. Other Business

Non-Emergency issues not contained in this agenda may come before the Council for discussion and formal Council action during its 161st meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 22, 2014.
Tracey L. Thompson,
Acting Deputy Director, Office of Sustainable Fisheries, National Marine Fisheries Service.

[FR Doc. 2014-22898 Filed 9-25-14; 8:45 am]

BILLING CODE 3510-22-P